DEPARTMENT OF COMMERCE

Census Bureau

Submission for OMB Review; Comment Request

DOC has submitted to the Office of Management and Budget (OMB) for clearance the following proposal for collection of information under the provisions of the Paperwork Reduction Act (44 U.S.C. chapter 35).

Title: 2007 Economic Census, Precanvass for the Commodity Flow Survey.

Form Number(s): CFS-0001, CFS-0002.

Agency Approval Number: None.

Type of Request: New collection.

Burden: 4,933 hours.

Number of Respondents: 85,000.

Avg. Hours Per Response: CFS-0001—5 min.; CFS-0002—2 min.

Needs and Uses: The U.S. Census Bureau plans to conduct the 2007 Commodity Flow Survey (CFS) as a part of the quinquennial Economic Census. In advance of the 2007 CFS we will conduct a Precanvass. That Precanvass is the subject of this request.

The information collected in the 2007 CFS Precanvass will be used to:

a. Improve the frame and sampling efficiency of the 2007 CFS, and

b. Provide contact information for the largest establishments, reducing the cost and improving the timeliness of data collection.

The 2007 CFS Precanvass will be mailed to auxiliary establishments, and establishments expected to be selected with certainty in the 2007 CFS.

The Commodity Flow Survey, a component of the Economic Census, is the only comprehensive source of multi-modal, system-wide data on the volume and pattern of goods movement in the United States. The CFS is conducted in partnership with the Bureau of Transportation Statistics (BTS), U.S. Department of Transportation. The 2007 CFS will be the subject of a separate submission in 2006.

Affected Public: Business or other for-profit.

Frequency: Every 5 years.

Respondent's Obligation: Mandatory.

Legal Authority: Title 13 U.S.C. 131, 193, and 224.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202) 395-7245 or e-mail (susan_schechter@omb.eop.gov).

Dated: November 28, 2005.
Madeleine Clayton,
Management Analyst, Office of the Chief Information Officer.

[FR Doc. E5-6743 Filed 12-1-05; 8:45 am]

BILLING CODE 3510-07-P